DEPARTMENT OF TRANSPORTATION

Federal Aviation Administration

14 CFR Part 73

[Docket No. FAA-2003-13850; Airspace Docket No. 02-AEA-19]

RIN 2120-AA66

Proposed Amendment of Restricted Areas R-5802A and B; and Establishment of Restricted Areas R-5802C, D, and E, Fort Indiantown Gap, PA

Correction

In proposed rule document 03-20772 beginning on page 48579 in the issue of Thursday, August 14, 2003, make the following correction:

§ 73.58 [Amended]

On page 48581, in the first column, in §73.58, under the paragraph titled, “R-5802E Fort Indiantown Gap, PA [New],” in the second line, “long. 74°42′59″ W.” should read “long. 76°42′59″ W.”.

[FR Doc. C3-20772 Filed 8-21-03; 8:45 am]

BILLING CODE 1505-01-D